DEPARTMENT OF COMMERCE

National Oceanic and Atmospheric Administration

RIN 0648-XB160

Marine Mammals; File Nos. 16193 and 17157

AGENCY: National Marine Fisheries Service (NMFS), National Oceanic and Atmospheric Administration (NOAA), Commerce.

ACTION: Notice; issuance of permit amendments.

SUMMARY: Notice is hereby given that two major permit amendments have been issued: Permit No. 16193-01 has been issued to Todd Robeck, D.V.M, Ph.D., Sea World Parks and Entertainment Corp, 500 Sea World Drive, San Diego, CA 92109; and, Permit No. 17157-02 has been issued to Stephen John Trumble, Ph.D., Baylor University, 101 Bagby Ave., Waco, TX 76706.

ADDRESSES: The permit amendments and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore or Amy Sloan, (301) 427-8401.

SUPPLEMENTARY INFORMATION: On December 8, 2015, notices were published in the Federal Register (File No. 16193-01, 80 FR 76276; and File No. 17157-02, 80 FR 76278) that requests for amendments had been submitted by the above-named applicants to amend their permits to receive, import, and export specimens from marine mammals for scientific research. The requested permit amendments have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 16193, issued on August 28, 2012, authorizes the permit holder to receive, import, and export cetacean and pinniped specimens to study reproductive physiology, including endocrinology, gamete biology, and cryophysiology. Permit No. 16193-01 amends the authorization to include unlimited samples from up to 300 wild Amazon River dolphins (Inia geoffrensis) annually.

Permit No. 17157, issued on July 18, 2012, and amended on November 7, 2014, authorizes the receipt, import and export of up to 25 earplugs annually of each of the following species of whale: blue (Balaenoptera musculus), sei (B. borealis), minke (B. acutorostrata), humpback (Megaptera novaeangliae), gray (Eschrichtius robustus), bowhead (Balaena mysticetus), fin (B. physalus), and sperm (Physeter macrocephalus). The samples may be obtained from natural history museums as well as from collections in Barrow, Alaska, of bowhead whale subsistence harvests.

Permit No. 17157-02 authorizes an increase in the number of animals that samples that may be received, imported, and exported from 25 to 100 individuals annually. In addition, the permit has been amended to authorize the receipt, import, and export of baleen samples from blue and fin whales.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: February 2, 2016.
Perry F. Gayaldo,
Deputy Director, Office of Protected Resources, National Marine Fisheries Service.

[FR Doc. 2016-02384 Filed 2-5-16; 8:45 am]

BILLING CODE 3510-22-P